DEPARTMENT OF ENERGY

10 CFR Part 431

[EERE-2017-BT-STD-0022]

RIN 1904-AE47

Energy Conservation Program: Energy Conservation Standards for Automatic Commercial Ice Makers; Reopening of Public Comment Period

AGENCY: Office of Energy Efficiency and Renewable Energy, Department of Energy.

ACTION: Notification of availability of preliminary technical support document; reopening of public comment period.

SUMMARY: On March 25, 2022, the U.S. Department of Energy (“DOE”) published in the Federal Register a notification of a webinar and availability of preliminary technical support document for automatic commercial ice makers (“ACIMs”), with a deadline for submitting comments of May 24, 2022. Since publication of the proposed rule, DOE has received four requests to extend the comment period. DOE has reviewed these requests and is reopening the comment period until June 7, 2022.

DATES: The comment period for the notification of a preliminary analysis regarding energy conservation standards for ACIMs published in the Federal Register on March 25, 2022 (87 FR 17025) is reopened to June 7, 2022. Written comments, data, and information are requested and will be accepted on and before June 7, 2022.

ADDRESSES: Interested persons are encouraged to submit comments using the Federal eRulemaking Portal at www.regulations.gov under docket number EERE-2017-BT-STD-0022. Follow the instructions for submitting comments. Alternatively, comments may be submitted by email to: ACIM2017STD0022@ee.doe.gov. Include docket number EERE-2017-BT-STD-0022 in the subject line of the message.

No telefacsimiles (“faxes”) will be accepted. For detailed instructions on submitting comments and additional information on this process, see section IV of this document.

Although DOE has routinely accepted public comment submissions through a variety of mechanisms, including the Federal eRulemaking Portal, email, postal mail and hand delivery/courier, the Department has found it necessary to make temporary modifications to the comment submission process in light of the ongoing COVID-19 pandemic. DOE is currently suspending receipt of public comments via postal mail and hand delivery/courier. If a commenter finds that this change poses an undue hardship, please contact Appliance Standards Program staff at (202) 586-1445 to discuss the need for alternative arrangements. Once the COVID-19 pandemic health emergency is resolved, DOE anticipates resuming all of its regular options for public comment submission, including postal mail and hand delivery/courier.

To inform interested parties and to facilitate this rulemaking process, DOE has prepared an agenda, a preliminary TSD, and briefing materials, which are available on the DOE website at: www.regulations.gov/docket/EERE-2020-BT-STD-0014.

Docket: The docket for this activity, which includes Federal Register notices, comments, and other supporting documents/materials, is available for review at www.regulations.gov. All documents in the docket are listed in the www.regulations.gov index. However, not all documents listed in the index may be publicly available, such as those containing information that is exempt from public disclosure.

The docket web page can be found at www.regulations.gov/#!docketDetail;D=EERE-2017-BT-STD-0022. The docket web page contains instructions on how to access all documents, including public comments in the docket. See section IV for information on how to submit comments through www.regulations.gov.

FOR FURTHER INFORMATION CONTACT:

Dr. Stephanie Johnson, U.S. Department of Energy, Office of Energy Efficiency and Renewable Energy, Building Technologies, EE-2J, 1000 Independence Avenue SW, Washington, DC 20585-0121. Telephone: (202) 287-1943 Email: ApplianceStandardsQuestions@ee.doe.gov.

Ms. Sarah Butler, U.S. Department of Energy, Office of the General Counsel, GC-33, 1000 Independence Avenue SW, Washington, DC 20585-0121. Telephone: (202) 586-1777. Email: Sarah.Butler@hq.doe.gov.

For further information on how to submit a comment, review other public comments and the docket, contact the Appliance and Equipment Standards Program staff at (202) 287-1445 or by email: Stephanie.johnson@ee.doe.gov.

SUPPLEMENTARY INFORMATION: On March 25, 2022, DOE published a notification of a webinar and availability of preliminary technical support document for ACIMs. This document announced a public meeting webinar would be held on April 25, 2022, and a comment period deadline of May 24, 2022. Additionally, on March 24, 2022, DOE received a request from the Hoshizaki America, Inc. to move the webinar date due to a conflict with an industry-wide Conference. To accommodate these scheduling issues, DOE moved the public meeting webinar for ACIMs to Thursday, May 5, 2022. On May 16, 2022, DOE received a comment from the American Heating, Refrigeration, and Air Conditioning Institute (AHRI) seeking a 60-day extension of the public comment period for ACIMs. AHRI justified their request citing a need for more time to gather data and to avoid other meeting conflicts. On May 17, 2022, DOE received a comment from the North American Association of Food Equipment Manufacturers (NAFEM) seeking a 60-day extension of the public comment period for ACIMs. NAFEM justified their request citing a need for more time to gather data and to avoid other meeting conflicts. On May 18, 2022, DOE received a comment from the Association of Home Appliance Manufacturers (AHAM) seeking a 60-day extension of the public comment period for ACIMs. AHAM justified their request citing that this comment period overlaps with other DOE comment periods and a need for a response from DOE on a question regarding the shipments analysis that came up during the May 5, 2022, ACIM webinar. The response to question about the shipments analysis that was raised by AHAM on the May 5, 2022, webinar is in the docket EERE-2017-BT-STD-0022-0010.

Through this notification, DOE will reopen the comment period and accept submissions of comments, data, information until June 7, 2022. Accordingly, DOE will now accept written comments and information on the notification of a preliminary analysis regarding energy conservation standards for ACIMs submitted on and before June 7, 2022.

Signing Authority

This document of the Department of Energy was signed on May 23, 2022, by Kelly J. Speakes-Backman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 23, 2022.
Treena V. Garrett,
Federal Register Liaison Officer, U.S. Department of Energy.

[FR Doc. 2022-11323 Filed 5-25-22; 8:45 am]

BILLING CODE 6450-01-P